FEDERAL COMMUNICATIONS COMMISSION

47 CFR Part 73

[DA 05-309; MB Docket No. 05-45, RM-11147]

Radio Broadcasting Services; Atwood, KS, Burlington and Flagler, CO, and McCook, NE

AGENCY: Federal Communications Commission.

ACTION: Proposed rule.

SUMMARY: The Audio Division requests comments on a petition filed by Border Alliance of Broadcasters proposing the allotment of Channel 280C0 at Atwood, Kansas, as the community's first local aural transmission service. To accommodate the allotment, petitioner also proposes (1) The substitution of Channel 292C2 for vacant Channel 280C2 at McCook, Nebraska, and the modification of the reference coordinates; (2) the substitution of Channel 282C1 for Channel 281C1 at Burlington, Colorado, and the modification of Station KNAB-FM's license accordingly; and (3) the substitution of Channel 261C3 for vacant Channel 283C3 at Flagler, Colorado. Channel 280C0 can be allotted to Atwood in compliance with the Commission's minimum distance separation requirements with a site restriction of 33.9 kilometers (21.1 miles) east of the community. The coordinates for Channel 280C0 at Atwood are 39-49-38 North Latitude and 100-38-48 West Longitude. See Supplementary Information, infra.

DATES: Comments must be filed on or before March 31, 2005, reply comments on or before April 15, 2005.

ADDRESSES: Federal Communications Commission, Washington, DC 20554. In addition to filing comments with the FCC, interested parties should serve the petitioner, or its counsel or consultant, as follows: Dan J. Alpert, Esq., 2120 N. 21st Road, Arlington, Virginia 22201 (Counsel for Petitioner).

FOR FURTHER INFORMATION CONTACT: Sharon P. McDonald, Media Bureau, (202) 418-2180.

SUPPLEMENTARY INFORMATION: This is a synopsis of the Commission's Notice of Proposed Rule Making, MB Docket No. 05-45, adopted February 2, 2005, and released February 7, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

To accommodate the allotment, Channel 282C1 can be substituted at Burlington at Station KNAB-FM presently licensed site. The coordinates for Channel 282C1 at Burlington are 39-17-41 North Latitude and 102-15-37 West Longitude. Channel 292C2 can be substituted at McCook with a site restriction of 20.5 kilometers (12.7 miles) southeast at the requested modified site. The coordinates for Channel 292C2 at McCook are 40-03-34 North Latitude and 100-28-21 West Longitude. Channel 261C3 can be substituted at Flagler with a site restriction of 9.7 kilometers (6.0 miles) east of the community. The coordinates for Channel 261C3 at Flagler are 39-18-00 North Latitude and 102-57-16 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Colorado, is amended by removing Channel 281C1 and adding Channel 282C1 at Burlington; and by removing Channel 283C3 and adding Channel 261C3 at Flagler.

3. Section 73.202(b), the Table of FM Allotments under Kansas, is amended by adding Atwood, Channel 280C0.

4. Section 73.202(b), the Table of FM Allotments under Nebraska, is amended by removing Channel 280C2 and adding Channel 292C2 at McCook.

Federal Communications Commission.
John A. Karousos,
Assistant Chief, Audio Division, Media Bureau.

[FR Doc. 05-3208 Filed 2-17-05; 8:45 am]

BILLING CODE 6712-01-P